DEPARTMENT OF HOUSING AND URBAN DEVELOPMENT

[Docket No. FR-5750-N-26]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; ARMY: Ms. Veronica Rines, Office of the Assistant Chief of Staff for Installation Management, Department of Army, Room 5A128, 600 Army Pentagon, Washington, DC 20310, (571) 256-8145; COE: Mr. Scott Whiteford, Army Corps of Engineers, Real Estate, CEMP-CR, 441 G Street NW., Washington, DC 20314; (202) 761-5542; COAST GUARD: Commandant, United States Coast Guard, Attn: Jennifer Stomber, 2100 Second St. SW., Stop 7901, Washington, DC 20593-0001; (202) 475-5609; INTERIOR: Mr. Michael Wright, Acquisition & Property Management, Department of the Interior, 3960 N. 56th Ave. #104, Hollywood, FL. 33021; (443) 223-4639; NAVY: Mr. Steve Matteo, Department of the Navy, Asset Management Division, Naval Facilities Engineering Command, Washington Navy Yard, 1330 Patterson Ave. SW., Suite 1000, Washington, DC 20374; (202) 685-9426 (These are not toll-free numbers).

Dated: June 19, 2014.
Brian P. Fitzmaurice,
Director, Division of Community Assistance, Office of Special Needs Assistance Programs.

TITLE V, FEDERAL SURPLUS PROPERTY PROGRAM FEDERAL REGISTER REPORT FOR 06/27/2014

Suitable/Available Properties

Building

Arkansas

Shiloh Park Change Shelter

Greers Ferry Lake Project

Greers Ferry AR 72067

Landholding Agency: COE

Property Number: 31201420013

Status: Underutilized

Comments: off-site removal only; no future agency need; 420 sq. ft.; fair conditions; contact COE for more information.

South Fork Park Vault Toilet

Greers Ferry Lake Project

Shirley AR 72153

Landholding Agency: COE

Property Number: 31201420014

Status: Unutilized

Directions: Property ID# GFERRY-44567

Comments: off-site removal only; no future agency need; 172.8 sq. ft.; poor conditions; contact COE for more information.

Hawaii

3 Buildings

JBPHH

JBPHH HI 96860

Landholding Agency: Navy

Property Number: 77201420028

Status: Excess

Directions: 307; 308; 309

Comments: off-site removal only; 1,396 sq. ft. for each; deteriorated; restricted access; contact Navy for more information on a specific property & accessibility/removal requirements.

Kansas

7 Buildings

Fort Riley

610 Warrior Rd.

Fort Riley KS 66442

Landholding Agency: Army

Property Number: 21201420002

Status: Excess

Directions: 7610,7614,7616,7842, 7846,7850,8063

Comments: Off-site removal only; major repairs needed, mold and asbestos; secured area; contact Army for information on a specific property and accessibility/removal request.

Virginia

Blades Circle Sheds

JER Little Creek

Wallop Island VA

Landholding Agency: Navy

Property Number: 77201420019

Status: Unutilized

Comments: off-site removal only; no future agency need; age: 1987-1990; 2,496 total sq. ft.; 24+ months vacant; poor conditions; contact Navy for more information.

Blades Circle Duplex Units

JER Little Creek

Wallop Island VA

Landholding Agency: Navy

Property Number: 77201420020

Status: Unutilized

Comments: off-site removal only; no future agency need; age: 1987-1990; 36,202 total sq. ft.; 24+ months vacant; poor conditions; contact Navy for more information.

Blades Circle Housing Units

JER Little Creek

Wallop Island VA

Landholding Agency: Navy

Property Number: 77201420021

Status: Unutilized

Comments: off-site removal only; no future agency need age: 1987-1990; 43,591 total sq. ft.; 24+ months vacant; poor conditions; contact Navy for more information.

Suitable/Unavailable Properties

Building

Arizona

Old Ehrenberg Office

49354 Ehrenberg-Poston Hwy.

Ehrenberg AZ

Landholding Agency: Interior

Property Number: 61201340009

Status: Unutilized

Comments: 800 sq. ft.; office; significant water damage; repairs a must; asbestos/lead; contact Interior for more info.

California

Siphon Drop Caretaker's Reside

(RPUI #00350000600B)

Yuma Main Canal

Winterhaven CA

Landholding Agency: Interior

Property Number: 61201340010

Status: Unutilized

Comments: 1,014 sq. ft.; 108+ months vacant; extensive termite damage; asbestos; mold, lead; escort required; contact Interior for more info.

Idaho

Black Canyon Office, Warehouse

& Classroom

3999 E. Black Canyon Hwy

Emmett ID 83617

Landholding Agency: Interior

Property Number: 61201330038

Status: Underutilized

Comments: 4,880 sf.; 48 yrs.-old; office's roof needs replacing; good/moderate conditions; secured area; contact Interior for more info.

0017-0501-00B, 0017-0502-00B

1359 Hanson Ave.

Burley ID 83318

Landholding Agency: Interior

Property Number: 61201410003

Status: Excess

Directions: 0017-0501-00B (4,608 sq. ft.); 0017-0502-00B (5,220 sq. ft.)

Comments: office & garage/storage; 66+ yrs.-old; 4+ months vacant; surrounding area: mixed resid./commercial; good condition; small cracks in 0017-0501 foundation; contact Interior for more info.

Indiana

Tract 85-107

910 Wilson Road

Beverly Shores IN 46301

Landholding Agency: Interior

Property Number: 61201330001

Status: Excess

Comments: residential; 2,548 sf., residential; 26+months vacant, extensive structural damage, asbestos & mold, contact Interior for more info.

Tract 25-111 Slaughter House

206 Prospect

Beverly Shore IN 46301

Landholding Agency: Interior

Property Number: 61201330002

Status: Excess

Comments: 1,180 sf.; 18+ month vacant; asbestos. mold & lead; rat-infested; contact interior for more info.

Tract 38-134 Olson House

1449 Hawley Wood Rd.

Chesterton IN 46304

Landholding Agency: Interior

Property Number: 61201330003

Status: Excess

Comments: 1,026 sf.; residential; significant repairs; 26+ months vacant; asbestos & lead; contact interior for more info.

Tract 11-250; Lane House

null

Portage IN 46368

Landholding Agency: Interior

Property Number: 61201330004

Status: Excess

Comments: 1,375 sf., residential; 25+ months vacant, asbestos; significant repairs need, contact Interior for more info.

Tract 11-101; Defauw House

9736 Maple Place

Gary IN 46401

Landholding Agency: Interior

Property Number: 61201330005

Status: Excess

Comments: 1,176 sf.; residential; 25+ months vacant; contact Interior for more information.

Tract 35-126 Millet House

Porter IN 46304

Landholding Agency: Interior

Property Number: 61201330006

Status: Excess

Comments: 1,170 sf.; residential; 25+ months vacant; asbestos & lead; significant repairs; contact interior for more info.

Tract 113-43, Kritlow House

Gary IN 46401

Landholding Agency: Interior

Property Number: 61201330007

Status: Excess

Comments: 1,000 sf., residential; 20+months vacant, mold & asbestos; contact Interior for more info.

Tract 64-156, Keys House

275 York Avenue

Beverly Shores IN 46301

Landholding Agency: Interior

Property Number: 61201330008

Status: Excess

Comments: 1,200 sf., residential; 3 yrs., vacant, mold, lead & asbestos; extensive deterioration, contact Interior for more info.

Tract 41-138 Meyer House

230 E 1500 N

Chesterton IN 46304

Landholding Agency: Interior

Property Number: 61201330009

Status: Excess

Comments: 1,152 sf.; residential; 24+ months vacant; asbestos & mold; extensive deterioration, contact interior for more info.

Indiana

Tract 11-228 Mache House

9621 Maple Avenue

Portage IN 46368

Landholding Agency: Interior

Property Number: 61201330010

Status: Excess

Comments: 840 sf.; 25+ months vacant; asbestos; structural unsound; contact interior for more info.

Tract 87-141 McClusky House

929 E Holy Place

Beverly Shores IN 46301

Landholding Agency: Interior

Property Number: 61201330011

Status: Excess

Comments: 2,688 sf.; residential; 26+ months vacant; mold; extensive damage; contact interior for more info.

Tract 85-100 McPharlin House

9 S Drake

Beverly Shore IN 46301

Landholding Agency: Interior

Property Number: 61201330012

Status: Excess

Comments: 1,302 sf.; residential; 3 yrs. + vacant, asbestos; lead; mold; extensive deterioration; contact interior for more info.

Tract 39-145, Tabor House

106 E Pottawatomie Court

Chesterton IN 46304

Landholding Agency: Interior

Property Number: 61201330013

Status: Excess

Comments: 1,351 sf., residential; 26+months vacant, extensive deterioration contamination; contact Interior for more info.

Tract 39-158 Jones House

1477 NE Pottawatomie

Chesterton IN 46304

Landholding Agency: Interior

Property Number: 61201330014

Status: Excess

Comments: 2,046 sf.; residential; 26+ months vacant; extensive deterioration; contact interior for more info.

Tract 40-177 Koehnemann House

1464 N Veden Road

Chesterton IN 46304

Landholding Agency: Interior

Property Number: 61201330015

Status: Excess

Comments: 1,347 sf.; residential; 24+ months vacant; mold; extensive deterioration; contact Interior for more info.

Tract 35-134; Willison House

901 W HWY 12

Porter IN 46304

Landholding Agency: Interior

Property Number: 61201330016

Status: Excess

Comments: 576 sf., residential; 25+months vacant, asbestos & lead; significant repairs; contact Interior for more info.

Tract 13-156 Barnes House

345 S Union

Gary IN 46401

Landholding Agency: Interior

Property Number: 61201330017

Status: Excess

Comments: 1,372 sf.; residential; 59 yrs. old; asbestos & lead; significant repairs needed, contact Interior for more info.

Tract 85-199; Zimmerman House

13 S Drake

Beverly Shore IN 46301

Landholding Agency: Interior

Property Number: 61201330018

Status: Excess

Comments: 1,133 sf., 3+ yrs. vacant, residential, extensive deterioration, contact Interior for more info.

Tract 39-103 Benson House

1485 Pottawatomie Road

Chesterton IN 46304

Landholding Agency: Interior

Property Number: 61201330019

Status: Excess

Comments: 1,305 sf.; residential; 26+ months vacant; significant repairs needed; asbestos & lead; contact interior for more info.

Tract 19-101 Brooks House

1507 N 300 E

Chesterton IN 46304

Landholding Agency: Interior

Property Number: 61201330022

Status: Excess

Comments: 865 sf.; residential; 24+ months vacant; asbestos mold & lead extensive damage, contact Interior for more info.

Tract 18-139; Parker House

156 N County Line Road

Gary IN 46401

Landholding Agency: Interior

Property Number: 61201330023

Status: Excess

Comments: 2,406 sf., residential; asbestos; Chimney, damage; structural unsound; contact Interior for more info.

Tract 38-145 Carney House

1451 Hawley Wood Road

Chesterton IN 46304

Landholding Agency: Interior

Property Number: 61201330024

Status: Excess

Comments: 1,736 sf.; residential; 26+ months vacant; asbestos; lead & mold; structurally unsound, contact Interior for more info.

Tract 27-146; Periolat House

940 E Valley

Beverly Shores IN 46301

Landholding Agency: Interior

Property Number: 61201330025

Status: Excess

Comments: 1,552 sf., residential; 72+ months vacant, asbestos, mold & lead; contact Interior for more info.

Tract 86-162; Pascale House

909 E. Lakefront Drive

Beverly Shores IN 46301

Landholding Agency: Interior

Property Number: 61201330026

Status: Excess

Comments: 2,100 sf., residential; 26+ months vacant, extensive deterioration; asbestos; contact Interior for more info.

Tract 35-117; Segal House

717 W HWY 12

Porter IN 46304

Landholding Agency: Interior

Property Number: 61201330027

Status: Excess

Comments: 608 sf., residential; 25+ months vacant, asbestos, mold & lead; contact Interior for more info.

Tract 39-175; Peterson House

103 Pottawatomie Trail

Chesterton IN 46304

Landholding Agency: Interior

Property Number: 61201330028

Status: Excess

Comments: 1,305 sf., residential; 25+ months vacant, extensive deterioration; asbestos & lead; contact Interior for more info.

Tract 114-23 Hartford House

3525 Tippecanoe

Gary IN 46401

Landholding Agency: Interior

Property Number: 61201330029

Status: Excess

Comments: 1,380 sf.; residential; 12+ months vacant; asbestos; lead & mold; structurally unsound; contact Interior for more info.

Tract 39-169 Goodwin House

114 Pottawatomie Road

Chesterton IN 46304

Landholding Agency: Interior

Property Number: 61201330030

Status: Excess

Comments: 2,178 sf.; residential; 25+ months vacant; extensive deterioration; contact Interior for more info.

Tract 87-142 Christphersen House

933 Holy Place

Beverly Shore IN 46301

Landholding Agency: Interior

Property Number: 61201330032

Status: Excess

Comments: 810 sf.; residential; asbestos; lead & mold; extensive damage; contact Interior for more info.

Tract 39-168 Leazer House

102 Pottawatomie

Chesterton IN 46304

Landholding Agency: Interior

Property Number: 61201330033

Status: Excess

Comments: 1,404 sf.; residential; 26+ months vacant; extensive deterioration; mold; roof needs to be replaced; contact Interior for more info.

Track 65-130 Lukas House

224 W Hastings

Beverly Shore IN 46301

Landholding Agency: Interior

Property Number: 61201330034

Status: Excess

Comments: 1,160 sf.; residential; 26+ months vacant; extensive deterioration; contact Interior for more info.

Tract 11-253 Grimm House

9655 Oak Place

Portage IN 46368

Landholding Agency: Interior

Property Number: 61201330035

Status: Excess

Comments: 1,541 sf.; residential; 25+ months vacant; asbestos; significant repairs needed; contact Interior for more info.

Tract 88-191 Specht Housr

925 E Beverly Drive

Beverly Shores IN 46301

Landholding Agency: Interior

Property Number: 61201330036

Status: Excess

Comments: 1,360 sf.; 30+ months vacant; residential; extensive damage asbestos & mold; contact Interior for more info.

Tract 25-123 Stroker House

270 Arkansas

Beverly Shores IN 46301

Landholding Agency: Interior

Property Number: 61201330037

Status: Excess

Comments: 2,640 sf.; 26+ months vacant; residential; asbestos; mold & lead; significant repairs; contact Interior for more info.

Tract 53-133, Hoffman House Pr

275 W. Carol Lane

Beverly Shores IN 46301

Landholding Agency: Interior

Property Number: 61201330039

Status: Excess

Comments: 1,503 sf., residential; 50 yrs.-old; repairs needed contact Interior for more info.

Tract 32-138, Dune Forest Dorm

108 Dune Forest Dorm

Chesterton IN 46304

Landholding Agency: Interior

Property Number: 61201330045

Status: Excess

Comments: 1,400 sf.; resid. 28+ months vacant; significant structural damage; termite infest.; asbestos; mold & lead; contact Interior for more info.

Tract 103-162, Eggbeer Property

3031 Dabbert Avenue

Porter IN 46304

Landholding Agency: Interior

Property Number: 61201330046

Status: Excess

Comments: 1,600 sf.; 24+ mos. vacant. resi.; extensive damage; asbestos; contact Interior for more info.

Maine

Two Trailers

Acadia Nat'l Park

Bar Harbor ME 04609

Landholding Agency: Interior

Property Number: 61201320020

Status: Unutilized

Comments: 768 sf. for each; residential; 15 yrs. vacant; repairs a must; contact Interior for more details.

Maryland

Tract #07-118; Cunningham Farm

18440 Shepherdstown Pike

Sharpsburg MD 21782

Landholding Agency: Interior

Property Number: 61201320023

Status: Excess

Comments: unsound structure; deteriorating; 1,190-1,535 sf.; wagon shed; 10 yrs. vacant.

North Carolina

Tract 01-106

129 Green Acres Lane

Greensboro NC 27410

Landholding Agency: Interior

Property Number: 61201240015

Status: Unutilized

Directions: Guilford Courthouse Nat'l Military Park

Comments: 1,647 sf.; 24 mons. vacant; erosion on structure; rapidly worsening.

Tract 01-134

121 Green Acres Lane

Greensboro NC 27410

Landholding Agency: Interior

Property Number: 61201240016

Status: Unutilized

Directions: Guilford Courthouse Nat'l Military Park

Comments: 1,385 sf.; 72 mons. vacant; erosion on structure; rapidly worsening; lead/asbestos identified.

Tract 01-141

119 British Lakes Dr.

Greensboro NC 27410

Landholding Agency: Interior

Property Number: 61201240017

Status: Unutilized

Directions: Guilford Courthouse Nat'l Military Park

Comments: 988 sf.; 53 mons. vacant; extensive deterioration.

Tract 01-144 A

3500 Battleground Ave.

Greensboro NC 27410

Landholding Agency: Interior

Property Number: 61201240018

Status: Unutilized

Directions: Guilford Courthouse Nat'l Military Park

Comments: 104 sf.; 53 mons. vacant; interior stripped out; conditions rapidly worsening; lead identified.

Tract 01-144B

103 British Lakes Dr.

Greensboro NC 27410

Landholding Agency: Interior

Property Number: 61201240025

Status: Unutilized

Directions: Guilford Courthouse Nat'l Military Park

Comments: 630 sf.; extensive deterioration.

Tract 01-162

107 British Lakes Dr.

Greensboro NC 27410

Landholding Agency: Interior

Property Number: 61201240026

Status: Unutilized

Directions: Guilford Courthouse Nat'l Military Park

Comments: 315 sf.; extensive deterioration; asbestos/lead identified; fuel leakage.

Pennsylvania

Tract 101-30

4501 County Line Rd.

King of Prussia PA 19406

Landholding Agency: Interior

Property Number: 61201240009

Status: Excess

Comments: 500 sf.; 7 yrs. vacant; extensive deterioration; hillside is used as stabilization; removal may be extremely difficult—may destroy property.

Virginia

Tract 02-103 Richardson House

700 Sunken Road

Fredericksburg VA 22401

Landholding Agency: Interior

Property Number: 61201320005

Status: Excess

Comments: 2,324 sf; resi. 16 yrs. vacant; structurally sound; however several roof leaks, ceiling damaged/lead base paint; contact interior for more info.

Tract 20-141

Blue Ridge Parkway

Galax VA 24333

Landholding Agency: Interior

Property Number: 61201320025

Status: Excess

Directions: Gibbs House; garage; cellar; milkhouse; workshop; barn; hay barn; tool shed

Comments: 200-1,430 sf.; residential, sheds; poor conditions; contamination; contact Interior for more info.

Tract 2731

Blue Ridge Parkway

Fancy Gap VA 24328

Landholding Agency: Interior

Property Number: 61201320028

Status: Excess

Directions: Poore House, Shed

Comments: range 12-1,200 sf.; residential, shed; 10+ yrs. vacant; poor conditions; contamination; contact Interior for more info.

Tract 27-120

Blue Ridge Parkway

Fancy Gap VA 24328

Landholding Agency: Interior

Property Number: 61201320029

Status: Excess

Directions: Semons House (frame); House (brick); Storage Shed; metal shed; privy; barn; storage bldg.; livestock shed

Comments: range 16-1,120 sf.; residential, sheds; 14+ yrs. vacant; poor conditions; contamination; contact Interior for more info.

Tract 30-146; Dean House

Blue Ridge Parkway

Galax VA 24333

Landholding Agency: Interior

Property Number: 61201320030

Status: Excess

Comments: 1,000-1,300 sf.; residential; 13+ yrs. vacant; poor conditions; contamination; contact Interior for more info.

Tract 14-114

Blue Ridge Parkway

Vinton VA 24179

Landholding Agency: Interior

Property Number: 61201320031

Status: Unutilized

Directions: Wilkinson Tree Barn; Barn

Comments: range 1,000-1,400 sf.; residential, sheds; 11+ yrs. vacant; poor conditions; contact Interior for more info.

Tract 22-121; Goff Barn

Blue Ridge Parkway

Floyd VA 24091

Landholding Agency: Interior

Property Number: 61201320032

Status: Unutilized

Comments: 720 sf.; residential, sheds; 32+ yrs. vacant; poor conditions; contamination.

Tract 30-141

Blue Ridge Parkway

Galax VA 24333

Landholding Agency: Interior

Property Number: 61201320033

Status: Excess

Directions: Lynch House; Barn w/lean-to shed; canning shed; shed on East side; shed in woods; springhouse; barn near road; barn in field

Comments: 120-1,600 sf.; residential, sheds; 172+ yrs. vacant; poor conditions; contamination.

Tract 26-137

Blue Ridge Parkway

Fancy Gap VA 24328

Landholding Agency: Interior

Property Number: 61201320035

Status: Excess

Directions: Morris House & garage; barn 1; barn 2; pigeon house; springhouse; hen house; storage building

Comments: 64-2,400 sf.; residential, sheds; 10+ yrs. vacant; poor conditions; contamination.

Tract 23-134

Blue Ridge Parkway

Floyd VA 24091

Landholding Agency: Interior

Property Number: 61201320036

Status: Excess

Directions: Pesman house; shed; springhouse; pole house

Comments: 88-1.352 sf.; residential, sheds; 13+ yrs. vacant; poor conditions; contamination.

Tract 19-140

Blue Ridge Parkway

Calloway VA 24067

Landholding Agency: Interior

Property Number: 61201320037

Status: Unutilized

Directions: House; Fruit Storage; Barn #1; Barn #2; Machine Shop; Storage; Shed; Privy; Chicken Coop; Hog Pen; Root Cellar; Meathouse

Comments: range from 36-1,200 sf.; residential, sheds; 32+ yrs. vacant; poor conditions; foundation in poor conditions.

Tract 20-141

Blue Ridge Parkway

Floyd VA 24091

Landholding Agency: Interior

Property Number: 61201320038

Status: Unutilized

Directions: Gibbs House; Shed #1; Shed #2; Hay Barn; Log Cabin; Tool Shed #1; Tool Shed #2; Barn

Comments: 36-840 sf.; residential, sheds; 7+ yrs. vacant; structurally unsound.

Tract 26-120

Richard Young House

Blue Ridge Parkway

Fancy Gap VA 24328

Landholding Agency: Interior

Property Number: 61201320041

Status: Excess

Comments: 60+ yrs.-old; 100-1,100 sf.; residential, shed; 13+ yrs. vacant; poor conditions; significant repairs needed; contamination; contact Interior for more info.

Tract 30-145

Blue Ridge Parkway

Galax VA 24333

Landholding Agency: Interior

Property Number: 61201320043

Status: Excess

Directions: Ramey House 1A; House IB; Cellar; Wood Storage; Shed A; Tool Shed; Horse Shed; Shed B

Comments: 40-1,200 sf.; residential, shed; 10+ yrs. vacant; poor conditions; contamination; contact Interior for more info.

Tract 01-114; Large Shed

Cedar Creek & Belle Grove National Historical

Park; 621 Bowman's Mill Rd.

Middletown VA 22645

Landholding Agency: Interior

Property Number: 61201340003

Status: Excess

Comments: 200 sq. ft.; 10+ yrs. vacant; poor conditions; wood structure; attempt to relocate will likely result in a complete collapse of the structure.

Washington

Dry Falls Junction; Cafe

Columbia Basin Project

Ephrata Field Office

Coulee City WA

Landholding Agency: Interior

Property Number: 61201330048

Status: Excess

Comments: 4,455 total sq. ft.; restaurant; 36+ months vacant; renovations a must; contamination; contact Interior for more info.

Dry Falls Junction-Mini Mart

Columbia Basin Project

Ephrata Field Office

Coulee City WA

Landholding Agency: Interior

Property Number: 61201330049

Status: Excess

Comments: 1,675 sq. ft.; gas station/mini-mart; 36+ months vacant; renovations a must; contact Interior for more info.

Henke Triple Wide Mobile Home

10466 Idano Rd.

Moses Lake WA

Landholding Agency: Interior

Property Number: 61201340001

Status: Excess

Comments: 2,555 sq. ft.; residential; 3+ months vacant; good condition; contact Interior for more info.

Henke Garage-Columbia Basin

Project

10466 Idano Rd.

Moses Lake WA

Landholding Agency: Interior

Property Number: 61201340002

Status: Excess

Comments: 720 sq. ft.; garage/shop/well house; 3+ months vacant; good condition; contact Interior for more info.

West Virginia

Tract #105-05

3011 New River Rd.

Hinton WV 25951

Landholding Agency: Interior

Property Number: 61201320007

Status: Excess

Directions: Tommy Ray & Cynthia Mullen's House; Shed#1; Shed #2; carport; Cinder Block Utility Bldg.

Comments: sf. varies; 6 yrs. vacant; structurally sound; lead, mold, & asbestos present; contact Interior for more details.

Tract #105-38

2901 New River Rd.

Hinton WV 25951

Landholding Agency: Interior

Property Number: 61201320012

Status: Excess

Directions: Betty Jane Adkins House; Cinder Block Bldg.

Comments: sf. varies; 7 yrs. vacant; repairs a must; contact Interior for more details.

Tract #161-37; Billy Joe

Adkins House

312 Silverbell Dr.

Terry WV 25864

Landholding Agency: Interior

Property Number: 61201320014

Status: Excess

Comments: overgrown by vegetation; 1,150 sf.; 10 yrs. vacant; repairs a must; contact Interior for more details.

New River Gorge Nat'l River

1303 New River Rd.

Hinton WV 25951

Landholding Agency: Interior

Property Number: 61201320015

Status: Excess

Directions: Tract #102-38 Steven & Mary Pat Duncan House; Shed #1; Shed #2

Comments: sf. varies; 6 yrs. vacant; structurally sound; contact Interior for more details.

New River Gorge Nat'l River

2319 New River Rd.

Hinton WV 25951

Landholding Agency: Interior

Property Number: 61201320017

Status: Excess

Directions: Tract 104-49 (Mr. & Mrs. Herron House); Shed #1; Shed #2; Carport; Cinderblock Bldg.

Comments: sf. varies; 4-6 yrs. vacant; structurally sound; contact Interior for more details.

New River Gorge Nat'l River

Misty River Rd./Rt. 27/2

Hinton WV 25951

Landholding Agency: Interior

Property Number: 61201320018

Status: Excess

Directions: Tract 176-06; Glenwood Corp. Cabins #1, #2, & #3

Comments: sf. varies; 5 yrs. vacant; structurally sound; contact Interior for more details.

Tract #161-05

Bobby Harrah House

Lot 9 Silverbell Dr.

Terry WV 25864

Landholding Agency: Interior

Property Number: 61201320019

Status: Excess

Comments: residential; 7 yrs. vacant; structurally sound but uninhabitable; repairs a must; contact Interior for more details.

Tract 161-17

Johnny & Brenda Adkins House

Lot 51 Silverbell Dr.

Terry WV 25864

Landholding Agency: Interior

Property Number: 61201320022

Status: Excess

Comments: 670 sf.; residential; 10 yrs. vacant; leaking roof/water damage; contact Interior for more info.

Wisconsin

Tract 07-149, Hanus House

14788 W. Phipps Road

Hayward WI 54843

Landholding Agency: Interior

Property Number: 61201330040

Status: Excess

Comments: 18,576 total sf.; log cabin (w/detached garage); fair conditions; contact Interior for more into.

Tract 13-177, Ogren House

10035 Ogren Road

Hayward WI 54843

Landholding Agency: Interior

Property Number: 61201330041

Status: Excess

Comments: 1,500 sf.; residential (w/garage); 12+ months vacant; fair condition; contact Interior for more info.

Tract 04-117

42485 Randysek Road

Cable WI 54821

Landholding Agency: Interior

Property Number: 61201330044

Status: Excess

Comments: 1,408 sf.; log cabin; 36+ months vacant; fair conditions; contact Interior for more info.

Wyoming

Quarters 96

Grand Teton National Park

Moran WY 83013

Landholding Agency: Interior

Property Number: 61201410001

Status: Excess

Comments: foundation damage/cracks; repairs required for use; contamination; contact Interior for more information.

Unsuitable Properties

Building

California

4 Buildings

MCB Camp Pendleton

Camp Pendleton CA 92055

Landholding Agency: Navy

Property Number: 77201420022

Status: Excess

Directions: SS001; SS002; SS003;SS005

Comments: public access denied and no alternative method to gain access without compromising national security.

Reasons: Secured Area.

3 Buildings

MCB Camp Pendleton

Camp Pendleton CA 92005

Landholding Agency: Navy

Property Number: 77201420023

Status: Excess

Directions: SS006; SS0013; SS010

Comments: public access denied and no alternative method to gain access without compromising national security.

Reasons: Secured Area

3 Buildings

MCB Camp Pendleton

Camp Pendleton CA 92055

Landholding Agency: Navy

Property Number: 77201420024

Status: Excess

Directions: 1142; 1362; 1674

Comments: public access denied and no alternative method to gain access without compromising national security.

Reasons: Secured Area

3 Buildings

MCB Camp Pendleton

Camp Pendleton CA 92055

Landholding Agency: Navy

Property Number: 77201420025

Status: Excess

Directions: 2242; 21401; 22143

Comments: public access denied and no alternative method to gain access without compromising national security.

Reasons: Secured Area

2 Buildings

MCB Camp Pendleton

Camp Pendleton CA 92055

Landholding Agency: Navy

Property Number: 77201420026

Status: Excess

Directions: 31851; 43508

Comments: public access denied and no alternative method to gain access without compromising national security.

Reasons: Secured Area

Virginia

Lift Station (210) [26232]

1 Training Center

Yorktown VA 23690

Landholding Agency: Coast Guard

Property Number: 88201420009

Status: Excess

Comments: public access denied and no alternative method to gain access without compromising national security.

Reasons: Secured Area

Lift Station (2101A) [26233]

1 Training Center

Yorktown VA 23690

Landholding Agency: Coast Guard

Property Number: 88201420010

Status: Excess

Comments: public access denied and no alternative method to gain access without compromising national security.

Reasons: Secured Area

Unsuitable Properties

Land

Hawaii

Land; 11,502 Sq. Ft.

JBPHH

JBPHH HI 96860

Landholding Agency: Navy

Property Number: 77201420027

Status: Underutilized

Comments: public access denied and no alternative method to gain access without compromising national security.

Reasons: Secured Area

[FR Doc. 2014-14704 Filed 6-26-14; 8:45 am]

BILLING CODE 4210-67-P